UNIFIED CARRIER REGISTRATION PLAN

Sunshine Act Meeting Notice; Unified Carrier Registration Plan Board of Directors Meeting

TIME AND DATE: April 23, 2020, from Noon to 3:00 p.m., Eastern time.

PLACE: This meeting will be accessible via conference call and screen sharing. Any interested person may call 877-853-5247 (U.S. toll free), 888-788-0099 (U.S. toll free), +1 669-900-6833 (U.S. toll), or +1 929-205-6099 (U.S. toll), Conference ID 360 608 3231, to participate in the meeting.

STATUS: Parts of this meeting will be open to the public. Parts of this meeting will be closed to the public pursuant to Government in the Sunshine Act Exemptions (4), (9)(B) and (10) (see agenda below for further information).

MATTERS TO BE CONSIDERED: The Unified Carrier Registration Plan Board of Directors (the “Board”) will continue its work in developing and implementing the Unified Carrier Registration Plan and Agreement. The subject matter of the meeting will include:

Agenda

Open to the Public

I. Welcome and Call to Order—UCR Board Chair

The UCR Board Chair will welcome attendees, call the meeting to order, call roll for the Board, and facilitate self-introductions.

II. Verification of Meeting Notice—UCR Executive Director

The UCR Executive Director will verify the publication of the meeting notice on the UCR website and in the Federal Register.

III. Review and Approval of Board Agenda—UCR Board Chair

For Discussion and Possible Action

Agenda will be reviewed and the Board will consider adoption.

Ground Rules

➢ Board action only to be taken in designated areas on agenda

➢ Please MUTE your phone

➢ Please do NOT place the call on HOLD

V. Approval of Minutes of the March 12, 2020 UCR Board Meeting—UCR Executive Director

For Discussion and Possible Action

Minutes of the March 12, 2020 Board meeting will be reviewed. The Board will consider action to approve.

V. Discussion of COVID-19 Impact on UCR—UCR Board Chair

The UCR Board Chair will lead a discussion on the impact of the COVID-19 pandemic on industry, state operations, and UCR collections.

VI. Update on June UCR Training and Board Meeting—UCR Executive Director

The UCR Executive Director will update the Board on planning for the June 8 and 9, 2020 UCR Training and Board Meeting in light of the COVID-19 pandemic.

VII. Report of FMCSA—FMCSA Representative

FMCSA will provide a report on any relevant activity.

VIII. Updates Concerning UCR Legislation—UCR Board Chair

The UCR Board Chair will call for any updates regarding UCR legislation since the last Board meeting.

IX. Recommendation to United States Department of Transportation (USDOT) Secretary to Designate UCR Board Chairperson—UCR Executive Director

For Discussion and Possible Action

The UCR Executive Director will ask the Board to consider and possibly act to adopt a recommendation to the Secretary of the USDOT designating one member of the Board to serve as chairperson of the Boa

X. Trademark Infringement/Cease and Desist Letter Update—UCR Chief Legal Officer

The UCR Chief Legal Officer will provide an update to the Board on the status of a cease and desist letter sent to a possible trademark infringer on March 4, 2020.

XI. Proposal to Suspend Collection of UCR Fees for the 2020 Registration Year and Either Refund or Provide a Credit for the 2021 Registration Year for Registrants That Have Already Registered and Paid for the 2020 Registration Year—Monte Wiederhold, Board Member

For Discussion and Possible Action

Based on the economic fall-out from the COVID-19 pandemic, Board Member Monte Wiederhold will present a proposal to suspend collection of UCR fees for the 2020 registration year and either refund or provide a credit for the 2021 registration year for registrants that have already registered and paid for the 2020 registration year.

XII. Ratify Extension of Recommended 2020 Enforcement Date—UCR Chief Legal Officer

For Discussion and Possible Action

Depending on the Board decision regarding the previous agenda item, the UCR Chief Legal Officer will lead a discussion on the proposed ratification of the decision by the UCR Board Chair and the UCR Executive Director to further extend the recommended 2020 enforcement date to July 1, 2020. The Board may act to ratify the action of the UCR Board Chair and the UCR Executive Director to extend the recommended enforcement date.

XIII. SUBCOMMITTEE REPORTS

Audit Subcommittee—UCR Audit Subcommittee Chair

A. Update on 2020 State Compliance Reviews—UCR Depository Manager

The UCR Depository Manager will provide an update on the plans for the 2020 state compliance reviews, including contingency plans related to the COVID-19 pandemic.

B. Update on the 2020 New Entrant and Unregistered Solicitation Campaigns—Seikosoft

Seikosoft will provide an updated report on new entrant motor carrier campaigns managed by the National Registration System (NRS), new entrant motor carrier campaigns managed by the states, unregistered motor carrier campaigns managed by the NRS, and unregistered motor carrier campaigns managed by the states.

C. Update on the Non-Universe Motor Carrier Solicitation Campaigns—Seikosoft

Seikosoft will provide an updated report on the solicitation campaign targeting motor carriers identified through roadside inspections to be operating in interstate commerce but identified in MCMIS as either intrastate or inactive.

D. Update on State Carrier Audits and Recommended Extension to June 1, 2020—UCR Audit Subcommittee Chair

For Discussion and Possible Action

The UCR Audit Subcommittee Chair will report on state audit activity to date and emphasize the strategy of using Focused Anomalies Review (FARs) and MCS-150 retreats. The UCR Chief Legal Officer will recommend that the Board ratify the UCR Audit Subcommittee Chair's action to provide states a deadline extension on their annual carrier audits to June 1, 2020.

Finance Subcommittee—UCR Finance Subcommittee Chair

A. Status of 2020 Registration Year Fee Collections—UCR Depository Manager

The UCR Depository Manager will provide an update on the status of collections for the 2020 registration year and compare to 2019 registrations for the equivalent time-period one year ago, to provide perspective on impact from the COVID-19 crisis.

B. Daily Liquidity Account (DLA) Interest Rate Reduction—UCR Depository Manager

The UCR Depository Manager will provide an update on the reduction of the interest rate to the DLA held at Truist Bank (formerly SunTrust).

C. March 2020 Operating Costs—UCR Depository Manager

The UCR Depository Manager will provide an update on the year-to-date costs of operating the UCR Plan and provide insights into how costs compare with the operating budget.

Education and Training Subcommittee—UCR Education and Training Subcommittee Chair

A. Update on Plans to Launch Training Modules—UCR Education and Training Subcommittee Chair

The UCR Education and Training Subcommittee Chair will provide an update on plans to launch an initial wave of training modules by June 2020.

XIV. Contractor Reports—UCR Executive Director

• UCR Executive Director

The UCR Executive Director will provide a report covering recent activity for the UCR Plan.

• DSL Transportation Services, Inc.

DSL will report on the latest data on state collections based on reporting from the FARs program.

• Seikosoft

Seikosoft will provide an update on recent/new activity related to the NRS.

• UCR Administrator (Kellen)—UCR Administrator

The UCR Administrator will provide its management report covering recent activity for the Depository, Operations, and Communications.

Portions Closed to the Public

Pursuant to the Government in the Sunshine Act at 5 U.S.C. 552b(d)(1), the Board must now vote to approve closing the portions of the meeting dealing with items XV, XVI, XVII and XVIII on the agenda.

The UCR Chief Legal Officer has advised that the Board may, if it votes to do so, close these portions of this meeting pursuant to Government in the Sunshine Act Exemptions (4), (9)(B) and (10). By approving this action, the Board determines that public participation would likely disclose (i) confidential trade secrets, commercial and financial information of one or more UCR contractors, (ii) information for which premature disclosure would likely frustrate implementation of a proposed agency action, and/or (iii) specifically concern the discussion of information, the premature disclosure of which would likely negatively impact the agency's participation in an ongoing civil action or proceeding. Therefore, by approving this action, the Board is invoking Exemptions (4), (9)(B) and (10) to close these portions of the meeting (5 U.S.C. 552b(c)(4), (9)(B) and (10)).

A copy of each of the votes on the closure of each of these four portions of this meeting shall be made publicly available on the UCR Plan website within one day of the votes taken herein (https://plan.ucr.gov).

XV. UCR Website and Email Service Addendum—UCR Executive Director

For Discussion and Possible Action

The UCR Executive Director will review a proposed contract addendum for providing website and email services for the UCR Plan. The Board may take action to adopt the proposal.

XVI. UCR Administrator (Kellen) Contract—UCR Executive Director

For Discussion and Possible Action

The UCR Executive Director will review a proposed contract renewal with the UCR Administrator (Kellen). The Board may take action to adopt.

XVII. Data Event Update—UCR Chief Legal Officer

The UCR Chief Legal Officer will provide an update to the Board on the status of certain aspects of the March 2019 data event.

XVIII. Update on Twelve Percent Logistics Litigation—UCR Chief Legal Officer

The UCR Chief Legal Officer will provide an update to the Board on the status of the litigation.

Portions Open to the Public

XIX. Report of Actions Taken During Closed Portion of the Meeting—UCR Board Chair

The UCR Board Chair will report on actions, if any, taken during closed portions of the meeting.

XX. Other Business—UCR Board Chair

The UCR Board Chair will call for any business, old or new, from the floor.

XXI. Adjournment—UCR Board Chair

The UCR Board Chair will adjourn the meeting.

This agenda will be available no later than 5:00 p.m. Eastern time, March 15, 2020 at: https://plan.ucr.gov.

CONTACT PERSON FOR MORE INFORMATION: Elizabeth Leaman, Chair, Unified Carrier Registration Plan Board of Directors, (617) 305-3783, eleaman@board.ucr.gov.

Alex B. Leath,
Chief Legal Officer,Unified Carrier Registration Plan.

[FR Doc. 2020-08279 Filed 4-15-20; 4:15 pm]

BILLING CODE 4910-YL-P